DEPARTMENT OF THE INTERIOR

National Park Service

[NPS-WASO-NAGPRA-NPS0039889; PPWOCRADN0-PCU00RP14.R50000]

Notice of Inventory Completion: Peabody Museum of Archaeology and Ethnology, Harvard University, Cambridge, MA

AGENCY: National Park Service, Interior.

ACTION: Notice.

SUMMARY: In accordance with the Native American Graves Protection and Repatriation Act (NAGPRA), the Peabody Museum of Archaeology and Ethnology, Harvard University (PMAE) has completed an inventory of human remains and has determined that there is a cultural affiliation between the human remains and Indian Tribes or Native Hawaiian organizations in this notice.

DATES: Repatriation of the human remains in this notice may occur on or after May 12, 2025.

ADDRESSES: Jane Pickering, Peabody Museum of Archaeology and Ethnology, Harvard University, 11 Divinity Avenue, Cambridge, MA 02138, telephone (617) 496-2374, email jpickering@fas.harvard.edu.

SUPPLEMENTARY INFORMATION: This notice is published as part of the National Park Service's administrative responsibilities under NAGPRA. The determinations in this notice are the sole responsibility of the PMAE, and additional information on the determinations in this notice, including the results of consultation, can be found in the inventory or related records. The National Park Service is not responsible for the determinations in this notice.

Abstract of Information Available

Based on the information available, human remains representing, at minimum, two individuals were collected at the Rosebud Indian Reservation, SD. The human remains are hair clippings collected from one individual who was recorded as being 73 years old and one individual who was recorded as being 29 years old and identified as “Oglala.” William O. Roberts took the hair clippings at the Rosebud Indian Reservation between 1930 and 1933. Roberts sent the hair clippings to George Woodbury, who donated the hair clippings to the PMAE in 1935. No associated funerary objects are present.

Based on the information available, human remains representing, at minimum, 13 individuals was collected at the Flandreau Indian School, Moody County, SD. The human remains are hair clippings collected from two individuals who were recorded as being 19 years old, four individuals who were recorded as being 17 years old, three individuals who were recorded as being 16 years old, three individuals who were recorded as being 15 years old, and one individual who was recorded as being 13 years old and identified as “Sioux.” George E. Peters took the hair clippings at the Flandreau Indian School between 1930 and 1933. Peters sent the hair clippings to George Woodbury, who donated the hair clippings to the PMAE in 1935. No associated funerary objects are present.

Based on the information available, human remains representing, at minimum, three individuals were collected at the Pierre Indian School, Hughes County, SD. The human remains are hair clippings collected from two individuals who were recorded as being 19 years old and one individual who was recorded as being 16 years old and identified as “Sioux.” C.B. Dickinson took the hair clippings at the Pierre Indian School between 1930 and 1933. Dickinson sent the hair clippings to George Woodbury, who donated the hair clippings to the PMAE in 1935. No associated funerary objects are present.

Based on the information available, human remains representing, at minimum, two individuals were collected at the Genoa Indian School, Nance County, NB. The human remains are hair clippings collected from one individual who was recorded as being 18 years old and one individual who was recorded as being 17 years old and identified as “Sioux.” S.B. Davis took the hair clippings at the Genoa Indian School between 1930 and 1933. Davis sent the hair clippings to George Woodbury, who donated the hair clippings to the PMAE in 1935. No associated funerary objects are present.

Based on the information available, human remains representing, at minimum, one individual was collected at the Rosebud Indian Reservation, SD. The human remains are hair clippings collected from one individual who was recorded as being 41 years old and identified as “Sioux.” William O. Roberts took the hair clippings at the Rosebud Indian Reservation between 1930 and 1933. Roberts sent the hair clippings to George Woodbury, who donated the hair clippings to the PMAE in 1935. No associated funerary objects are present.

Based on the information available, human remains representing, at minimum, one individual was collected at the Carson Indian School, Carson City County, NV. The human remains are hair clippings collected from one individual who was recorded as being 17 years old and identified as “Sioux.” Frederic Snyder took the hair clippings at the Carson Indian School between 1930 and 1933. Snyder sent the hair clippings to George Woodbury, who donated the hair clippings to the PMAE in 1935. No associated funerary objects are present.

Based on the information available, human remains representing, at minimum, one individual was collected at the Chilocco Indian Agricultural School, Kay County, OK. The human remains are hair clippings collected from one individual who was recorded as being 16 years old and identified as “Sioux.” Lawrence E. Correll took the hair clippings at the Chilocco Indian Agricultural School between 1930 and 1933. Correll sent the hair clippings to George Woodbury, who donated the hair clippings to the PMAE in 1935. No associated funerary objects are present.

Cultural Affiliation

Based on the available information and the results of consultation, cultural affiliation is clearly identified by the information available about the human remains described in this notice.

Determinations

The PMAE has determined that:

• The human remains described in this notice represent the physical remains of 23 individuals of Native American ancestry.

• There is a reasonable connection between the human remains described in this notice and the Oglala Sioux Tribe.

Requests for Repatriation

Written requests for repatriation of the human remains in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains in this notice to a requestor may occur on or after May 12, 2025. If competing requests for repatriation are received, the PMAE must determine the most appropriate requestor prior to repatriation. Requests for joint repatriation of the human remains are considered a single request and not competing requests. The PMAE is responsible for sending a copy of this notice to the Indian Tribe identified in this notice.

Authority: Native American Graves Protection and Repatriation Act, 25 U.S.C. 3003, and the implementing regulations, 43 CFR 10.10.

Dated: April 1, 2025.
Melanie O'Brien,
Manager, National NAGPRA Program.

[FR Doc. 2025-06205 Filed 4-10-25; 8:45 am]

BILLING CODE 4312-52-P